DEPARTMENT OF LABOR

Agency Information Collection Activities; Submission for OMB Review; Comment Request; Analysis of Employer Performance Measurement Approaches

AGENCY: Office of the Assistant Secretary for Policy, Chief Evaluation Office, Department of Labor.

ACTION: Notice of Information Collection; request for comment.

SUMMARY: The Department of Labor (DOL), as part of its continuing effort to reduce paperwork and respondent burden, conducts a preclearance consultation program to provide the general public and Federal agencies with an opportunity to comment on proposed and/or continuing collections of information in accordance with the Paperwork Reduction Act of 1995 (PRA95). This program helps to ensure that required data can be provided in the desired format, reporting burden (time and financial resources) is minimized, collection instruments are clearly understood, and the impact of collection requirements on respondents can be properly assessed.

Currently, DOL is soliciting comments concerning the collection of data about the Analysis of Employer Performance Measurement Approaches. A copy of the proposed information Collection Request (ICR) can be obtained by contacting the office listed below in the Addresses section of this notice.

DATES: Written comments must be submitted to the office listed in the addressee section below on or before May 7, 2018.

ADDRESSES: You may submit comments by either one of the following methods: Email: ChiefEvaluationOffice@dol.fgov; Mail or Courier: Megan Lizik, Chief Evaluation Office, OASP, U.S. Department of Labor, Room S-2312, 200 Constitution Avenue NW, Washington, DC 20210. Instructions: Please submit one copy of your comments by only one method. All submissions received must include the agency name and OMB Control Number identified for this information collection. Comments, including any personal information provided, become a matter of public record. They will also be summarized and/or included in the request for OMB approval of the information collection request.

FOR FURTHER INFORMATION CONTACT: Contact Megan Lizik by email at ChiefEvaluationOffice@dol.gov.

SUPPLEMENTARY INFORMATION:

I. Background

The Chief Evaluation Office (CEO), in collaboration with the Employment and Training Administration (ETA), is conducting a 36-month analysis of employer services measurement approaches and metrics, as well as their cross-state and cross-program applicability, with a goal of understanding and implementing a final indicator of performance. Under the Workforce Innovation and Opportunity Act (WIOA), the Secretaries of Labor and Education are required to establish one or more primary indicators of performance that indicate the effectiveness of core programs in serving employers. Through town halls, workgroups, and questions posed through the notice of proposed rule-making, the Secretaries of Labor and Education established three measures to be piloted by States: (1) An employee retention measure, (2) an employer penetration rate, and (3) a repeat business measure. States were also encouraged to pilot additional measures to assess effectiveness in serving employers. No clear metric has emerged to date as a single point of measurement of success in providing services to employers.

The study will explore and establish an understanding of the state of the field in the area of employer services measurement and supplement the start-up of reporting by the States on the National Pilot measures. Key objectives of the study include: (1) Developing and understanding how employer services are defined by the federal government, States, localities, and core WIOA programs and exploring options for developing a uniform definition of employer services; (2) identifying what measures exist for understanding employer services, key objectives of these measures, and possibilities for uniform implementation at the federal level; and (3) developing options for an evaluation design to assess the validity, reliability, and feasibility of proposed measures and alternative measures of effectiveness in serving employers.

This notification requests clearance for: (1) A 45-minute online survey of state WIOA administrators in the fifty States, the District of Columbia, Puerto Rico, Guam, and the Virgin Islands; (2) a 20-minute online survey of a sample of employers identified in partnership with the National Association of State Workforce Agencies (NASWA); (3) site visits that include structured interviews and focus groups to approximately 8 States; and (4) interviews with approximately 8 employers.

The survey of state WIOA administrators will collect information on which measures are being used by States, including National Pilot measures and alternate measures, progress made in implementing those measures, and how those measures are being used beyond required federal reporting.

The survey of a sample of employers will document businesses' understanding of employer services from the workforce system and what it means for those services to be effective. The sample of employers will be drawn from DirectEmployers members, NASWA Business of the Year Award Winners, and others recommended by NASWA.

The site visits to a selection of approximately eight States are intended to allow a deeper understanding of why particular measures were selected, progress in implementing performance measures, and related challenges. This fieldwork will include semi-structured interviews and focus groups. The States will be selected based on the results of the survey and other study knowledge, to include a mix of locations in terms of geographic region, performance measures being used, and status of implementation. Semi-structured interviews with a selection of approximately eight employers are intended to more fully explore issues of interest that emerge from the employer survey responses. Employer interview respondents will be selected based on survey responses as well as suggestions from NASWA regarding employers with particularly strong experience engaging with the workforce system.

II. Desired Focus of Comments

Currently, DOL is soliciting comments concerning the above data collection for the analysis of employer performance measurement approaches. DOL is particularly interested in comments that do the following:

• Evaluate whether the proposed collection of information is necessary for the proper performance of the functions of the agency related to employer services, including whether the information will have practical utility;

• evaluate the accuracy of the agency's estimate of the burden of the ICR to survey and fieldwork respondents, including the validity of the study approach and assumptions used;

• enhance the quality, utility, and clarity of the information to be collected; and

• minimize the burden of the information collection on respondents, including the use of appropriate automated, electronic, mechanical, or other technological collection techniques or other forms of information technology (e.g., permitting electronic submission of responses).

Table 1—Estimated Time Burden
Information collection activity | Total number of respondents | Annual number of respondents | Number of responses per respondent | Average burden per response (hours) | Annual burden hours
Survey—State WIOA Administrator | ᵃ 43 | 14 | 1 | 0.75 | 11
Survey—Employer | ᵇ 474 | 158 | 1 | 0.33 | 53
Site Visit Protocol—State Administrator | 32 | 11 | 1 | 0.75 | 8
Site Visit Protocol—Local Administrator | 8 | 3 | 1 | 0.75 | 2
Site Visit Protocol—State and Local Workforce Development Board Staff and Members | 32 | 11 | 1 | 0.75 | 8
Site Visit Protocol—State and Local Staff Collecting Performance Data | 16 | 5 | 1 | 0.75 | 4
Site Visit Protocol—American Job Center Staff | ᶜ 40 | 13 | 1 | 1 | 13
Interview—Employer | 8 | 3 | 1 | 0.75 | 2
Total | 653 | 218 |  |  | 101
ᵃ Based on an 80 percent response rate.
ᵇ Based on a 50 percent response rate.
ᶜ One focus group of five per site visit.

III. Current Actions

At this time, the Department of Labor is requesting clearance for data collection via online surveys and fieldwork for the analysis of employer performance measurement approaches.

Type of review: New ICR

OMB Control Number: 1290-0NEW

Affected Public: Individuals working on state and local workforce development programs, Workforce Development Boards, and American Job Centers selected for surveys and fieldwork; HR department representatives of businesses selected for surveys and interviews.

Comments submitted in response to this request will be summarized and/or included in the request for Office of Management and Budget (OMB) approval; they will also become a matter of public record.

Dated: February 27, 2018.
Molly Irwin,
Chief Evaluation Officer, U.S. Department of Labor.

[FR Doc. 2018-04546 Filed 3-5-18; 8:45 am]

BILLING CODE 4510-HX-P